LIBRARY OF CONGRESS

U.S. Copyright Office

[Docket No. 2014-03]

Music Licensing Study: Second Request for Comments

AGENCY: U.S. Copyright Office, Library of Congress.

ACTION: Notice of Inquiry.

Correction

In notice document 2014-17354 appearing on pages 42833 through 42835 in the issue of Wednesday, July 23, 2014, make the following correction:

1. On page 42833, in the first column, in the ADDRESSES section, the hyperlink should read: http://www.copyright.gov/docs/musiclicensingstudy.

2. On page 42833, in the second column, in the SUPPLEMENTARY INFORMATION section, the hyperlink on lines 29-31 should read: http://www.copyright.gov/docs/musiclicensingstudy/comments/Docket2014_3/.

3. On page 42833, in the second column, in the SUPPLEMENTARY INFORMATION section, the hyperlink on lines 44-45 should read: http://www.copyright.gov/docs/musiclicensingstudy/comments/Docket2014_3/.

[FR Doc. C1-2014-17354 Filed 7-28-14; 8:45 am]

BILLING CODE 1505-01-D